DEPARTMENT OF COMMERCE

International Trade Administration

(A-570-827)

Certain Cased Pencils from the People's Republic of China: Notice of Correction of Extension of Time Limit for Preliminary Results of the Antidumping Duty Administrative Review

AGENCY: Import Administration, International Trade Administration, Department of Commerce.

EFFECTIVE DATE: September 8, 2008.

FOR FURTHER INFORMATION CONTACT: Alexander Montoro at (202) 482-0238 or Shane Subler at (202) 482-0189; AD/CVD Operations, Office 1, Import Administration, International Trade Administration, U.S. Department of Commerce, 14th Street and Constitution Avenue, NW, Washington, DC 20230.

SUPPLEMENTARY INFORMATION:

Background

On August 25, 2008, the Department published a notice of extension of the time limit for the preliminary results of the antidumping duty review on certain cased pencils from the People's Republic of China. See Certain Cased Pencils from the People's Republic of China: Extension of Time Limits for Preliminary Results of the Antidumping Duty Administrative Review, 73 FR 49993 (August 25, 2008) (Extension Notice). We identified an error in the published version of the notice. Specifically, in the Extension Notice, the case number was incorrectly listed as C-570-827. The correct case number is A-570-827. This notice serves to correct the case number listed in the Extension Notice.

We are issuing and publishing this notice in accordance with sections 751(a)(1) and 777(i)(1) of the Act.

Dated: September 2, 2008.
Stephen J. Claeys,
Deputy Assistant Secretary for Import Administration.

[FR Doc. E8-20749 Filed 9-5-08; 8:45 am]

BILLING CODE 3510-DS-S